ENVIRONMENTAL PROTECTION AGENCY

[FRL-7990-6]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The document may be located by date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and section 111(d) of the Clean and Air Act regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with more than one thousand EPA letters and memoranda pertaining to the applicability, monitoring, recordkeeping, and reporting requirements of the NSPS and NESHAP. The letters and memoranda may be searched by date, office of issuance, subpart, citation, control number or by string word searches.

Today's notice comprises a summary of 58 such documents added to the ADI on August 19, 2005. The subject, author, recipient, date, header and a brief abstract of each letter and memorandum are listed in this notice. Complete copies of these documents may be obtained from the ADI through the OECA Web site at: http://www.epa.gov/compliance/assistance/applicability.

Summary of Headers and Abstracts

The following table identifies the database control number for each document posted on the ADI database system on August 19, 2005; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

ADI Determinations Uploaded on August 19, 2005
Control | Category | Subpart | Title
M050020 | MACT | RRR | Treatment of New In-Line Fluxer as a New Unit.
M050021 | MACT | XXXX | Tire Retreading Operations.
M050022 | MACT | HH, HHH | Separating Single Individual Surface Sites.
M050023 | MACT | UUU | Temporary Alternative Monitoring Plan.
M050024 | MACT | CC | Alternative Reporting Period.
M050025 | MACT | AA | Clarification of Cooling Tower Requirements.
M050026 | MACT | LLL | Opacity Limit for Commingled Emission Streams.
M050027 | MACT | LLL | Opacity Limit for Commingled Emission Streams.
M050028 | MACT | VVVV | Classification of a Resin as a Production Resin.
M050029 | MACT | A, T | Degreaser No Longer Using Regulated Solvent.
M050031 | MACT | RRR | Holding Furnaces Regulated as Group 2 Furnaces.
M050032 | MACT | RRR | Sweat Furnace.
M050033 | MACT | RRR | Die Caster Not Operating a Scrap Dryer.
M050034 | MACT | RRR | Clarification of Visible Emission Observations.
M050035 | MACT | ZZZZ | Applicability of RICE to Units Less than 500 Brake Horsepower.
Z050004 | NESHAP | N | Glass-Melting Furnaces Used for R&D Purposes.
Z050005 | NESHAP | C | Emission Test Waiver for Incinerator.
Z050006 | NESHAP | FF | Alternative Monitoring Plan for Dual Purpose Valves.
0500019 | NSPS | WWW | Clarification on Treatment System.
0500020 | NSPS | Dc | Alternative Recordkeeping for Boiler Fuel Usage.
0500021 | NSPS | J | Processing Transmix.
0500022 | NSPS | Dc | Alternative Recordkeeping for Boiler Fuel Usage.
0500023 | NSPS | Dc | Recordkeeping Variance.
0500024 | NSPS | Db | Waiver of NOX Monitoring During Boiler Startup.
0500025 | NSPS | OOO, UUU | Processing of Fused Silica.
0500026 | NSPS | LL | Relocation of Iron Ore Concentrate.
0500027 | NSPS | PPP | Alternative Monitoring for Scrubber.
0500028 | NSPS | Db, Dc | Fuel Supplier Certifications.
0500029 | NSPS | Db, Dc | Boiler Derate Proposal.
0500030 | NSPS | Dc | Alternative Monitoring Proposals for Opacity and SO2.
0500031 | NSPS | BBB | Tire Retreading Operations.
0500032 | NSPS | DD | Use of Grain Storage Capacity to Determine Applicability.
0500033 | NSPS | J | Alternative Monitoring Plan for Enclosed Flare.
0500034 | NSPS | Db | Applicability of Percent Reduction and Emission Rate Limits.
0500035 | NSPS | Kb | Alternative Method for Defining Maximum True Vapor Pressure.
0500036 | NSPS | A, Db | Wood Fired Boiler NOX Limits and Required Monitoring.
0500037 | NSPS | J | Alternative Monitoring Plan for Gas Turbines.
0500038 | NSPS | J | Alternative Monitoring Plan for Caustic Treating Plant.
0500039 | NSPS | J | Soil Vapor Stream/Regenerator Vent Gas Stream.
0500040 | NSPS | GG | Custom Fuel Monitoring Schedule.
0500041 | NSPS | A, J | Temporary Alternative Monitoring Plan.
0500042 | NSPS | J | Sulfur Pits & Storage Tanks, Liquid Sulfur Loading Stations.
0500043 | NSPS | A, J | Alternative Monitoring Plan for Heaters & Boilers.
0500044 | NSPS | A, J | Alternative Monitoring Plan for Reformer Heater.
0500045 | NSPS | A, J | Alternative Monitoring Plan for Loading Facility.
0500046 | NSPS | A, J | Alternative Monitoring Plan for Fuel Gas Streams.
0500047 | NSPS | A, J | Alternate Span Value for Sulfur Recovery Unit.
0500049 | NSPS | VV | Alternative Monitoring for Leak Detection.
0500050 | NSPS | PPP | Alternative Monitoring Procedure for Scrubber.
0500051 | NSPS | Db, Dc | Boiler Derate Proposal.
0500052 | NSPS | UUU | Alternative Monitoring and Test Waiver for Scrubber.
0500053 | NSPS | Dc | Fuel Recordkeeping Variance.
0500054 | NSPS | Dc | Alternative Recordkeeping Frequency for Fuel Usage.
0500055 | NSPS | KK | Waiver of Applicability for Storage Silo Vents.
0500056 | NSPS | UUU | Applicability of Sand Reclamation Processes in Foundry I.
0500057 | NSPS | LLL | Alternative Monitoring Request.
0500058 | NSPS | Y | Charcoal Briquet Manufacturing.
0500059 | NSPS | Db | Thermal Oxidizer-Heat Recovery Steam Generators.

Abstracts

Abstract for [M050020]

Q: Is a new in-line fluxer at ALCOA's plant in Massena, New York, considered a “new source” under 40 CFR part 63, subpart RRR?

A: Yes. EPA has determined that the proposed new in-line fluxer would be considered a separate secondary aluminum processing unit (SAPU) from the existing SAPU and therefore, a new emission unit or “new source” under 40 CFR part 63, subpart RRR.

Abstract for [Z050004]

Q: Would two new, continuous glass-melting furnaces, to be used for research and development purposes at Corning's Sullivan Park facility, be subject to the requirements in 40 CFR part 61, subpart N?

A: Yes. Any glass-melting furnace that uses commercial arsenic as a raw material is subject to the requirements in 40 CFR part 61, subpart N.

Abstract for [0500019]

Q: Are combustion engines that process treated gas and that meet the treatment system requirements in New Source Performance Standard subpart WWW, 40 CFR 60.752(b)(2)(iii)(C), subject to the control requirements in 40 CFR 60.752(b)(2)(iii)(B)?

A: No. As long as the treated gas meets the treatment system requirement in 40 CFR 60.752(b)(2)(iii)(C), the combustion engines are not subject to the control requirements in 40 CFR 60.752(b)(2)(iii)(B).

Abstract for [0500020]

Q: Will EPA approve an alternative monitoring and recordkeeping request by First Quality Tissue in Lock Haven, Pennsylvania, for monitoring and recording natural gas usage by seven small boilers subject to 40 CFR part 60, subpart Dc?

A: Yes. EPA will approve monthly monitoring of fuel usage as opposed to daily monitoring because of the small size of the boilers in question and the very clean fuel they use.

Abstract for [0500021]

Q: Does the processing of transmix at the Heath Oil facility in Oil City, Pennsylvania, subject the facility to the requirements of 40 CFR part 60, subpart J?

A: No. If the facility does not process crude oil, does not have the physical capability of processing crude oil, and only deals with products that have already been produced by a petroleum refinery, then the operation does not meet the definition of a “petroleum refinery” and is not subject to the New Source Performance Standard subpart J requirements.

Abstract for [0500022]

Q: Will EPA approve an alternative recordkeeping request, under 40 CFR part 60, subpart Dc, for a small boiler burning only clean fuels at the Kemp Foods facility in Lancaster, Pennsylvania?

A: Yes. EPA will approve the taking of monthly, rather than daily, readings of natural gas usage for the small boilers at the Kemp Foods facility under NSPS subpart Dc.

Abstract for [0500023]

Q: Will EPA allow, under 40 CFR part 60, subpart Dc, the U.S. Navy to record boiler fuel usage on a monthly, rather than daily, basis at seven boilers located in three locations in the Tidewater Region of Virginia?

A: Yes. EPA agrees to the proposed recordkeeping frequency change given that the seven small boilers in question combust only very clean fuels and EPA has already granted this type of request in other areas of the country to other facilities.

Abstract for [0500024]

Q: Will EPA waive, under 40 CFR part 60, subpart Db, nitrogen oxide (NOX) monitoring during boiler startups on mixed fuels for the #5 spreader stoker boiler at the University of Virginia in Charlottesville, Virginia?

A: No. EPA will not waive the requirement under NSPS subpart Db to monitor NOX emissions. However, for the short period that mixed fuels are being combusted, it will allow compliance to be maintained with the coal standard rather than the natural gas standard.

Abstract for [0500025]

Q: Will 40 CFR part 60, subparts OOO and UUU apply to a fused silica crucible manufacturing process using grinding mills and dryers and kilns at the Ceradyne facilities in Scottdale and Clarkston, Georgia?

A: No. Because fused silica is not a nonmetallic mineral, the processing of fused silica is not subject to New Source Performance Standard subparts OOO and UUU.

Abstract for [0500026]

Q: If Tennessee Minerals LLC were to remove iron ore concentrate from the site of an old mining/metallurgical operation in Copperhill, Tennessee, would the operation be subject to 40 CFR part 60, subpart LL?

A: No. Because the proposed operation would not produce a metallic mineral concentrate from ore, it would not meet the New Source Performance Standard subpart LL definition of a metallic mineral processing plant.

Abstract for [0500027]

Q: Will EPA approve, under 40 CFR part 60, subpart PPP, monitoring pressure at the water supply pump for a scrubber at the Owens Corning facility in Fairburn, Georgia?

A: No. EPA will not approve this request for alternative monitoring. To ensure ongoing compliance, it is necessary that the water flow rate be monitored because it is possible that the pressure at the pump outlet remains unchanged while the flow rate to the washing system has decreased.

Abstract for [0500028]

Q: Will EPA allow, under 40 CFR part 60, subparts Db and Dc, a one-time certification of fuel sulfur content for affected facilities that use very low sulfur fuel oil, rather than requiring the maintenance of records of fuel oil sulfur content for each shipment of fuel delivered?

A: No. EPA will not allow this alternative recordkeeping. Affected facilities must comply with the New Source Performance Standard subparts Db and Dc requirements concerning fuel oil sulfur certifications.

Abstract for [0500029]

Q: Will EPA approve a boiler derate proposal, under 40 CFR part 60, subpart Db, that is based on changes made to limit the fuel feed rate?

A: No. EPA will not approve this boiler derate proposal under New Source Performance Standard subpart Db because it is based only on a reduction in the fuel feed rate and does not result in a reduction in boiler capacity, thus failing to comply with EPA's policy on derates.

Abstract for [Z050005]

Q: Will EPA grant a waiver from the emission testing requirements of 40 CFR part 61, subpart C for the incinerator at the Duratek Services facility in Oak Ridge, Tennessee, which has submitted data to demonstrate that the source is in compliance with the standard?

A: Yes. Because the information supplied with the waiver request indicates that the company will comply with the National Emission Standards for Hazardous Air Pollutants subpart C, a waiver of testing requirements was determined to be appropriate.

Abstract for [0500030]

Q1: Will EPA approve an alternative monitoring request based on EPA Reference Method 9 testing data instead of using a continuous opacity monitoring system, under 40 CFR part 60, subpart Dc, for a boiler using residual oil as a backup fuel at Premium Standard Farms in Clinton, North Carolina?

A1: No. The proposed alternative monitoring procedure for opacity will need to be modified to be consistent with previous EPA approvals for similar operations with an annual capacity factor of 10 percent, as described in the EPA's response.

Q2: Does EPA approve the request to verify compliance with the sulfur dioxide emission standard in 40 CFR 60.42c(d) by the use of fuel supplier certifications and maintaining fuel usage records on a monthly basis?

A2: No. Since compliance with the fuel sulfur limit in New Source Performance Standard subpart Dc is determined on a 30-day rolling average basis, compliance cannot be determined for residual oil-fired units unless daily fuel usage records are available.

Abstract for [0500031]

Q: Are tire retreading and repair operations conducted by Snider Tire, Incorporated in Greensboro, North Carolina, and Parrish Tire Company in Yadkinville, North Carolina, subject to the requirements in 40 CFR part 60, subpart BBB?

A: No. The requirements in New Source Performance Standard subpart BBB do not apply since the operations do not produce new tires.

Abstract for [M050021]

Q: Are tire retreading and repair operations conducted by Snider Tire, Incorporated in Greensboro, North Carolina, and Parrish Tire Company in Yadkinville, North Carolina, subject to the requirements in 40 CFR part 63, subpart XXXX?

A: No. The requirements in 40 CFR part 63, subpart XXXX do not apply because the operations are not located at, nor are they a part of, a major source of hazardous air pollutants.

Abstract for [0500032]

Q1: Is tempered grain storage capacity counted toward total storage capacity for the purposes of 40 CFR part 60, subpart DD?

A1: Yes. Dried corn, dropped into “tempering” bins, may fracture and break. However, if no chemical processing or milling has yet occurred, the tempering bins serve as additional storage prior to the germination step, and are included in the total storage capacity for the purposes of New Source Performance Standard (NSPS) subpart DD.

Q2: If storage capacity increases at the facility, but there is no increase to the hourly grain handling capacity, would a facility be exempt under 40 CFR 60.304(b)(4) of NSPS subpart DD?

A2: The modification exemption under 40 CFR 60.304(b)(4) applies to affected facilities at the plant that existed prior to the date that NSPS subpart DD applied. Therefore, this modification exemption does not apply to the affected facilities that were constructed at the time the grain storage capacity reached one million bushels or subsequent to that time.

Q3: Do silos need to be tested and equipped with baghouses under NSPS subpart DD?

A3: No. These are not requirements of NSPS subpart DD. However, applicable local and state requirements may apply.

Abstract for [Z050006]

Q1: Do tank and oil/water separator pressure/vacuum relief valves at the wastewater treatment plant of the Flint Hills Resources refinery in Rosemount, Minnesota, function as pressure relief devices or as dilution air openings under the benzene waste operations National Emission Standards for Hazardous Air Pollutants, 40 CFR part 61, subpart FF?

A1: Because the pressure/vacuum relief valves relieve excess pressure in the closed vent system and allow dilution air to enter the closed vent system, they are both pressure relief devices and dilution air openings under the 40 CFR part 61, subpart FF.

Q2: Can these pressure/vacuum relief valves meet all the requirements of 40 CFR 61.343(a)(1)(i) and 61.347(a)(1)(i)?

A2: No. When the pressure/vacuum relief valves open to relieve excess pressure, the pressure in the closed vent system is greater than 2.0 inches water column above atmospheric, and, thus, the continuous monitoring requirement in 40 CFR 61.343(a)(1)(i)(C)(3) and 61.347(a)(1)(i)(C)(3) is not met.

Q3: Will EPA approve, under 40 CFR part 61, subpart FF, the refinery's alternative monitoring plan to: (a) design the pressure/vacuum relief valves to open only under a negative pressure of 0.5 inch water column or a positive pressure of 2.0 inches; (b) inspect the valves quarterly to verify proper operation; and (c) monitor the valves semiannually by the method specified in 40 CFR 61.355(h)?

A3: Yes. EPA will approve the alternative monitoring plan under 40 CFR part 61, subpart FF, with the condition that an instrument reading greater than 500 ppm above background indicates detectable emissions from the pressure/vacuum relief valves.

Abstract for [0500033]

Q: Will EPA allow Flint Hills Resources (FHR) Pine Bend Refinery in Rosemount, Minnesota, to amend, under 40 CFR part 60, subpart J, an existing alternative monitoring plan for a Zink Flare to include a new product, energy fortified diesel?

A: Yes. EPA will allow this amendment of the alternative monitoring plan because the facility has followed the Refinery Fuel Gas (RFG) guidance and has submitted all necessary information regarding energy fortified diesel. Because the facility loads only gasolines that meet their product specifications for sulfur content, the RFG Guidance does not require any further hydrogen sulfide monitoring on the gasoline loading rack off gas when FHR uses the Zink Flare.

Abstract for [0500034]

Q1: Do both the 90 percent sulfur dioxide reduction requirement and the 1.2 lbs/mmBtu sulfur dioxide limit apply to coal fired boilers subject to 40 CFR part 60, subpart Db?

A1: Yes. New Source Performance Standard (NSPS) subpart Db requires both a 90 percent sulfur dioxide reduction and a sulfur dioxide emission limit of 1.2 lbs/mmBtu.

Q2: If both the 90 percent sulfur dioxide reduction requirement and the 1.2 lbs/mmBtu sulfur dioxide limit apply to coal fired boilers, is it possible to get a waiver of the former for sources using very low sulfur coal?

A2: No. A waiver of the 90 percent sulfur dioxide reduction requirement is not allowed under NSPS subpart Db.

Abstract for [M050022]

Q: How can a single individual surface site be separated into a single 40 CFR part 63, subpart HH facility and a 40 CFR part 63, subpart HHH facility?

A: The point of custody transfer at a natural gas processing plant is where the natural gas enters the pipeline for transmission, and is also the point where the Maximum Achievable Control Technology standard subpart HHH applicability begins. Any equipment upstream of the pipeline is subject to 40 CFR part 63, subpart HH.

Abstract for [0500035]

Q: Will EPA allow the Trenton Agri Products ethanol facility in Trenton, Nebraska, to use Tanks 4.0 Software as the alternative method of defining “maximum true vapor pressure” under 40 CFR part 60, subpart Kb?

A: No. Although the Tanks 4.0 Software is a valuable tool in determining emissions, it is not the correct tool in determining applicability of the New Source Performance Standard subpart Kb requirements to an ethanol tank, and thus it will not be allowed for this purpose.

Abstract for [0500036]

Q1: What nitrogen oxide (NOX) limits apply under 40 CFR part 60, subpart Db, to the two 260 mm Btu/hr wood waste-fired boilers at the Burney Forest Products (BFP) facility in the Shasta County Air Quality Management District (AQMD), that are capable of combusting natural gas and do not have a 10 percent natural gas capacity factor limit?

A1: Until BFP obtains a 10 percent natural gas capacity factor limit that is federally enforceable, the facility will be subject to the NOX limit of 130 ng/J (0.30 lb/million Btu) found at 40 CFR 60.44b(d).

Q2: Is a NOX continuous emissions monitoring system (CEMS) required under 40 CFR part 60, subpart Db?

A2: Yes. BFP is required to operate a NOX CEMS until the facility obtains a 10 percent natural gas capacity factor limit. After it obtains a federally enforceable 10 percent natural gas capacity factor limit, the facility will no longer be required under New Source Performance Standard (NSPS) subpart Db to operate the NOX CEMS, and it will no longer be subject to the NOX limit at 40 CFR 60.44b(d). It should be stressed that, at all times, BFP has been and will remain subject to both the NSPS subpart Db opacity limit and the NOX limit and the required NOX monitoring contained in the prevention of significant deterioration (PSD) and Title V Permits issued by the Shasta County AQMD.

Q3: Assuming that the NOX limits prescribed in 40 CFR 60.44b(d) apply only when BFP is simultaneously combusting natural gas with wood, how should the data acquisition and handling system (DAHS) calculate the nitrogen oxides (NOX) 30-day rolling average when the facility is combusting only wood or only natural gas?

A3: The assumption that the NOX limits prescribed in 40 CFR 60.44b(d) apply only when BFP is simultaneously combusting natural gas with wood is incorrect.

Q4: If 40 CFR 60.44b(d) does not establish NOX emission limits when combusting wood or natural gas alone, should the NOX values recorded by the CEMS during periods where wood or natural gas only is combusted be deleted or disregarded in calculating the 30-day average under 40 CFR 60.46b(c) or (d)?

A4: NOX values should be recorded by the CEMS during periods when wood is combusted, when natural gas is combusted, or when there is simultaneous combustion. No NOX values should be deleted or disregarded in calculating the 30-day average under 40 CFR 60.46b(c) or (d), or 60.49b(g).

Q5: What is the applicable span value for BFP's NOX analyzers under 60 CFR 60.48b(e) when the facility simultaneously burns wood and natural gas? Also, since the facility has to meet a state NOX limit much lower than the 0.30 lb/million Btu limit specified in NSPS subpart Db, please verify that it is acceptable to use a lower span value of 250 ppm that has been specifically approved by the AQMD.

A5: The span value for the NOX analyzers should be 1.5 to 2.5 times greater than the permitted limit of 250 ppm. By “state NOX limit”, EPA assumes that BFP is referring to the emission limits in its prevention of significant deterioration (PSD) permit, which Shasta County AQMD issued pursuant to delegated PSD authority. The PSD permit requirements are also federal requirements. The NOX limit in Condition 1 of the Title V permit is 250 ppm, although the data submitted by BFP to EPA indicates that the emissions are normally at 100 ppm or less. Specifically, source tests in the year 2002 and the year 2003, showed a range of 60 to 80 ppm NOX for each of the boilers, and the monthly reports to the County indicate that these boilers have had no daily NOX averages above 80 ppm since the year 1999.

Q6: Please clarify whether the NOX CEMS installed in the boilers to meet the 40 CFR part 60, subpart Db monitoring requirements would be considered “continuous compliance monitors” under 40 CFR 60.46b(e)(3) or “excess emission monitors” under 40 CFR 60.46b(e)(4), based on the fact that the maximum boiler heat input capacity from fossil fuel firing is only 90 million Btu/hr.

A6: The NOX CEMS would be subject to 40 CFR 60.46b(e)(3), unless BFP obtains a federally enforceable requirement that limits its annual capacity for natural gas to 10 percent or less. If BFP obtains such a limit, then the NSPS subpart Db NOX limit does not apply, and the NOX CEMS would no longer be subject to the continuous compliance monitoring requirements under the NSPS subpart Db regulations. However, the NOX CEMS would still be considered continuous compliance monitors under the PSD/Title V and therefore, subject to the Best Achievable Control Technology emission limits.

Q7: Please clarify which reports would be applicable to these boilers under 40 CFR 60.49b and 60.7.

A7: EPA assumes that this question primarily concerns the obligations to provide reports concerning NOX emissions (although opacity reports are required by 40 CFR 60.49b(f)). The time period for the required initial notifications and initial testing has long since passed [40 CFR 60.49b(a) and (b)]. BFP is subject to the reporting and recordkeeping requirements in NSPS subparts A and Db. These include 40 CFR 60.49b(d), 60.49b(g), 60.49b(I), and 60.7.

Abstract for [0500037]

Q: Will EPA approve an alternative monitoring plan, under 40 CFR part 60, subpart J, for the butane that is generated at BP's Carson, California refinery and combusted at the Watson Cogeneration Company (WCC) turbines?

A: Yes. EPA will approve this alternative monitoring plan under New Source Performance Standard subpart J. BP proposed that weekly grab samples of the butane be analyzed for sulfur content with ASTM Method D5504-94, which has been incorporated by reference into 40 CFR part 75, subpart A.

Abstract for [0500038]

Q: Will EPA approve an alternative monitoring plan, under 40 CFR part 60, subpart J, for the vent gas stream from the caustic treating plant that is incinerated at the thermal oxidizer at the Chevron refinery in El Segundo, California?

A: Yes. EPA will approve an alternative monitoring plan under New Source Performance Standard subpart J. There are no crossover points that would allow sour gas to be combined with the vent gas. The caustic alkalinity is maintained at greater than 5 percent which keeps the hydrogen sulfide (H2S) in the vent gas stream at less that 0.2 parts per million. Chevron has submitted 14 consecutive days of sample results that document the low H2S content of this fuel gas stream.

Abstract for [0500039]

Q: Will EPA approve alternate monitoring plans, under 40 CFR part 60, subpart J, for the recovered soil vapor stream and the continuous catalytic reforming unit regenerator vent gas stream at the Chevron facility in El Segundo, California?

A: Yes. EPA determines that alternative monitoring plans for these streams are appropriate under New Source Performance Standard subpart J as long as the representative process parameter functions serve as indicators of a stable and low hydrogen sulfide concentration for the streams.

Abstract for [0500040]

Q: Will EPA approve a custom fuel monitoring schedule, under 40 CFR part 60, subpart GG, for a combustion turbine that combusts pipeline quality natural gas at the Corona Energy Partners (Corona) facility in Corona, California?

A: Yes. In accordance with its longstanding policy, and because Corona has proposed to sample the sulfur content of the fuel with South Coast Air Quality Management District Method 307-91, EPA will approve this custom fuel monitoring schedule under NSPS subpart GG.

Abstract for [M050023]

Q: Will EPA allow ExxonMobil, under 40 CFR part 63, subpart UUU, to use EPA Method 9 readings as an alternative to continuous opacity monitoring on the bypass stack of the fluid catalytic cracking unit at its Torrance, California refinery?

A: Yes. EPA will allow ExxonMobil to use Method 9 readings under 40 CFR part 63, subpart UUU as an alternative for bypass stacks as long as the control device for particulate matter is not bypassed. This approval is for a limited period of time to allow ExxonMobil to propose and EPA to evaluate the feasibility of a more permanent monitoring solution.

Abstract for [0500041]

Q: Will EPA allow ExxonMobil, under 40 CFR part 60, subpart J, to use EPA Method 9 readings as an alternative to continuous opacity monitoring on the bypass stack of the fluid catalytic cracking unit at its Torrance, California refinery?

A: Yes, EPA will allow ExxonMobil to use Method 9 readings under New Source Performance Standard subpart J as an alternative for bypass stacks as long as the control device for particulate matter is not bypassed. This approval is for a limited period of time to allow ExxonMobil to propose and EPA to evaluate the feasibility of a more permanent monitoring solution.

Abstract for [0500042]

Q: Which requirements of 40 CFR part 60, subpart J are applicable to sulfur pits, sulfur storage tanks, and liquid sulfur loading stations?

A: The emissions from a sulfur recovery plant's sulfur pits are subject to the 40 CFR 60.104(a)(2) limit regardless of where the emissions are routed. The emissions from the sulfur storage tanks and the sulfur loading racks are subject to the 40 CFR 60.104(a)(1) limit if they are combusted at a refinery fuel gas combustion device as defined in 40 CFR 60.101(g).

Abstract for [0500043]

Q: Will EPA allow an alternative monitoring plan, under 40 CFR part 60, subpart J, for four boilers and heaters at the Shell Bakersfield refinery?

A: Yes. EPA approves the proposed alternative monitoring plan, which entails calculating the hydrogen sulfide concentration of the mixed refinery fuel gas stream, provided that Shell certifies all flow meters and implements a quality assurance and quality control program for the flowmeters.

Abstract for [0500044]

Q: Will EPA approve annual source testing and daily detector tube sampling of the pressure swing absorption (PSA) purge gas under 40 CFR part 60, subpart J, for the Shell refinery in Wilmington, California?

A: Yes. Shell's proposal for measuring the hydrogen sulfide (H2S) concentration with the threshold value of 1 ppm at the outlet of the first Zinc Oxide bed will ensure that the PSA purge gas will meet the NSPS subpart J limit of 160 ppmv. Because the first Zinc Oxide bed will be replaced upon breakthrough at 1 ppmv, it is highly unlikely that the H2S concentration at the outlet of the second Zinc Oxide bed will ever exceed 0 ppmv.

Abstract for [M050024]

Q: Will EPA allow an alternate reporting period, under 40 CFR part 63, subpart CC, for the Valero refinery in Wilmington, California?

A: Yes. EPA will allow the proposed alternate reporting period as long as the proposed reporting period does not alter any of the other requirements of 40 CFR part 63, subpart CC.

Abstract for [0500045]

Q: Will EPA approve an alternate monitoring plan, under 40 CFR part 60, subpart J, for the marine vapor recovery loading facility at the Shell refinery in Martinez, California?

A: Yes. EPA approves the proposed alternative monitoring plan under New Source Performance Standard subpart J with the additional recordkeeping and reporting requirements set out in the determination.

Abstract for [0500046]

Q: Will EPA approve an alternative monitoring plan, under 40 CFR part 60, subpart J, for four fuel gas streams at the Shell refinery in Martinez, California?

A: Yes. EPA will approve alternative monitoring plans for these fuel gas streams under New Source Performance Standard subpart J. However, the representative process parameters for these streams must function as an indicator of a stable and low hydrogen sulfide concentration for the streams.

Abstract for [0500047]

Q: Will EPA approve, under 40 CFR part 60, subpart J, an alternate span setting on a continuous emission monitor (CEM) for its sulfur recovery unit, SRU-4, at the Shell refinery in Martinez, California?

A: Yes. EPA approves the alternate span values of 250 ppm and 2,500 ppm for the CEM for SRU-4 under New Source Performance Standard subpart J. These would be appropriate because the permitted and anticipated stack concentration for the SRU-4 is less than 100 ppm.

Abstract for [M050025]

Q: Is a facility in violation of National Emission Standards for Hazardous Air Pollutants (NESHAP) subpart AA, 40 CFR 63.602(e), if it combines its wet scrubber effluent with other process waters and waste waters, and then routes the combined water through a pile of disposed gypsum and ultimately to the evaporative cooling towers?

A: Yes. Although the scrubber liquid effluent at the facility is being diluted with other process waste waters, the fluoride emissions captured by the wet scrubbers are routed to the evaporative cooling towers where they are stripped off and emitted to the atmosphere. Therefore, the process is a violation of NESHAP subpart AA, 40 CFR 63.602(e).

Abstract for [M050026] and [M050027]

Q: What is the applicable opacity limit under 40 CFR part 63, subpart LLL, when kiln emissions and clinker cooler emissions are commingled in a common stack at the Essroc Portland cement facility in San Juan, Puerto Rico?

A: Where emissions from two affected facilities are simply combined or commingled in a common duct or stack, it is EPA's policy and practice to apply the more stringent opacity limitation. Application of the more stringent limitation is necessary to ensure compliance with each applicable standard. Therefore, the more stringent 10 percent clinker cooler opacity limit applies.

Abstract for [M050028]

Q: Will EPA classify as a “production resin,” under 40 CFR part 63, subpart VVVV, a non pigmented resin developed by Cook Composite and Polymers Company in Kansas City, Missouri, that is applied by non-atomizing equipment between the skin layer and bulk laminate of boats, and not directly to the mold surface?

A: Yes. As the new product is not applied directly to the mold surface and is not used to repair molds or prototypes, it does not meet the definitions of “gel coat” or “tooling resin” in 40 CFR 63.5779. Consequently, due to the product's properties and purpose, it should be classified as a “production resin” under the 40 CFR part 63, subpart VVVV.

Abstract for [0500048]

Q: Will EPA accept an alternative opacity monitoring plan for two coal-fired boilers subject to 40 CFR part 60, subpart D, where the continuous opacity monitor had to be removed from service because of water droplet interference from a newly-installed wet-gas scrubber used to remove sulfur dioxide?

A: Yes. EPA will accept this alternative opacity monitoring plan under New Source Performance Standard subpart D. The plan requires continuous monitoring of secondary power at the electrostatic precipitators and liquid flow rate at the wet-gas scrubber.

Abstract for [0500049]

Q: Will EPA approve, under 40 CFR part 60, subpart VV, a monitoring procedure at the Eastman Chemical facility in Kingsport, Tennessee, that uses sensory means (i.e., sight, sound, smell) to identify leaks from equipment that is in acetic acid and/or acetic anhydride service?

A: Yes. The proposed alternative is acceptable under New Source Performance Standard subpart VV. Monitoring results indicate that equipment leaks are identified more easily through sensory methods than by using Method 21, because of the physical properties (high boiling points, high corrosivity, and low odor threshold) of acetic acid and acetic anhydride, and the process conditions at the plant.

Abstract for [0500050]

Q: Will EPA approve, under 40 CFR part 60, subpart PPP, an alternative monitoring procedure for a scrubber at the Owens Corning facility in Fairburn, Georgia, in which the water pressure at the supply pump, rather than the gas pressure drop across the scrubber and the scrubbing liquid flow rate, is monitored?

A: Additional information concerning the operation of the scrubber and the rationale for the proposed alternative will need to be provided to EPA before a decision can be made.

Abstract for [0500051]

Q: Will EPA approve, under 40 CFR part 60, subparts Db and Dc, a boiler derate proposal from North Carolina Baptist Hospital in Winston-Salem, North Carolina, which is based on changes made to the natural gas burner?

A: Yes. EPA approves the proposed derate method under New Source Performance Standard subparts Db and Dc, as it will reduce the capacity of the boiler and will comply with EPA's policy on derates.

Abstract for [0500052]

Q1: Will EPA approve, under 40 CFR part 60, subpart UUU, an alternative monitoring procedure for a spray tower scrubber at the Short Mountain Silica facility in Mooresburg, Tennessee? The spray tower will control emissions from a fluidized bed dryer. Rather than measuring the pressure loss of the gas stream through the scrubber and the scrubbing liquid flow rate, the company proposes to monitor the scrubbing liquid supply pressure and flow rate.

A1: Yes. The proposed alternative is acceptable under New Source Performance Standard (NSPS) subpart UUU. Since there is little pressure drop of the gas stream as it passes through the spray tower, pressure drop is not a good indicator of the spray tower efficiency.

Q2: Will EPA waive the requirement, under 40 CFR part 60, subpart UUU, to conduct a performance test for a rotary dryer which serves as a backup for the fluidized bed dryer? The rotary dryer will use the same scrubber used for the fluidized bed dryer, will be used infrequently, and will have half the airflow rate of the fluidized bed dryer.

A2: Yes. A performance test waiver is appropriate under NSPS subpart UUU.

Abstract for [0500053]

Q: Will EPA approve an alternative recordkeeping schedule for boiler fuel usage under New Source Performance Standard subpart Dc for General Electric Transportation's new natural gas-fired boilers at their Erie, Pennsylvania plant?

A: Yes. EPA will approve the change to the recordkeeping frequency because the boilers only combust clean natural gas, are small boilers, and past EPA determinations have allowed a change from daily recordkeeping to monthly recordkeeping under the same set of circumstances.

Abstract for [0500054]

Q: Will EPA approve an alternative fuel usage recordkeeping frequency for small boilers under New Source Performance Standard subpart Dc for the Standard Steel facility in Burnham, Pennsylvania?

A: Yes. EPA approves the monthly recordkeeping alternative proposed by Standard Steel for its Burnham, Pennsylvania, plant for boiler fuel usage because the boilers are small, the only fuel is natural gas, and because this approval is consistent with past Agency determinations on the same subject.

Abstract for [M050029]

Q: Will a vapor degreaser at Tecumseh Products research laboratory in Ann Arbor, Michigan, still be subject to the Maximum Achievable Control Technology (MACT) standard subpart T if the facility replaces trichloroethylene with Leksol, a solvent consisting of 94 weight percent n-propyl bromide?

A: No. Once the facility permanently ceases to use any of the solvents listed in 40 CFR 63.460(a), and certifies that fact in writing, the vapor degreaser will no longer be subject to MACT subpart T. However, if the facility recommences the use of any of these solvents, the degreaser will immediately become subject to the National Emission Standards for Hazardous Air Pollutants, and per 40 CFR 63.9(j), the facility will have to inform EPA within 15 calendar days of the date of the change.

Abstract for [0500055]

Q: C&D Technologies, Incorporated completed construction of a building enclosure around three storage silos, which includes the truck unloading area and silo vents. Are these silo vents still subject to the requirements of 40 CFR part 60, subpart KK?

A: Yes. The enclosure has an exhaust hood and fan that are operating the entire time when a truck is unloading into a storage silo. The exhaust hood and fan route the truck diesel exhaust, uncontrolled and directly, from the enclosure to the atmosphere. Because the fan is taking air from inside the enclosure and venting it to the atmosphere, it is possible that air vented to the atmosphere from the enclosure contains exhaust from the silo vents.

Abstract for [M050030]

Q: Will EPA authorize, under 40 CFR part 63, subpart EEE, the use of data from a destruction and removal efficiency test conducted on a hazardous waste burning cement kiln in lieu of the requirement to conduct a destruction and removal efficiency test on a second hazardous waste burning cement kiln that is located at the same facility?

A: Yes. The company has demonstrated that the two kilns meet the stack test waiver criteria in EPA's February 2004 stack testing guidance. Therefore, EPA approves the request under the Maximum Achievable Control Technology standard subpart EEE.

Abstract for [M050031]

Q: Are the molten aluminum holding furnaces at Mercury Marine in Fond du Lac, Wisconsin, classified and regulated as group 2 furnaces under 40 CFR part 63, subpart RRR?

A: Yes. The furnaces hold molten aluminum prior to injection into die casting machines, do not involve fluxing, and do not provide any other process function, consistent with the rule's definition of a group 2 furnace. Thus, they are subject to the Maximum Achievable Control Technology standard subpart RRR.

Abstract for [M050032]

Q: Is the furnace at GNW Aluminum in Alliance, Ohio, considered a sweat furnace under 40 CFR part 63, subpart RRR?

A: Yes. The furnace has features indicative of a sweat furnace, such as relative small size, allowance for residual iron removal, and tilting to empty the molten aluminum, and is thus subject to the Maximum Achievable Control Technology standard subpart RRR.

Abstract for [M050033]

Q: Is the Hayes Lemmerz International die casting facility in Huntington, Indiana, which originally operated a scrap dryer and five melting furnaces, but has since taken the scrap dryer out of service, still subject to 40 CFR part 63, subpart RRR?

A: No. Maximum Achievable Control Technology standard subpart RRR does not apply to a die caster that operates furnaces which melt only clean charge, and that does not operate a sweat furnace, thermal chip dryer, or scrap dryer.

Abstract for [M050034]

Q: Under 40 CFR part 63, subpart RRR, may Method 22 visible emission readings for each test run at the Mercury Marine ring crusher in Fond du Lac, Wisconsin, be discontinued after 20 minutes of continuous operation rather than 60 minutes, and not resumed until the rest break exceeds 10 minutes?

A: Yes. Three 20-minute test runs are allowed and required under the Maximum Achievable Control Technology standard subpart RRR. The crusher must be shutdown after 20 minutes of continuous operation because the hopper following the crusher becomes full, and the crusher cannot be restarted without a rest break that exceeds 10 minutes. When the hopper becomes empty, another 20 minute test run is allowed.

Abstract for [0500056]

Q: Are calciners or dryers used in the reclamation of foundry sand subject to New Source Performance Standard (NSPS) subpart UUU?

A: Yes. Calciner and dryers used in the reclamation of foundry sand are subject to NSPS subpart UUU.

Abstract for [0500057]

Q1: Are the emissions from the liquid sulfur storage tanks at the Burlington Resources natural gas sweetening and sulfur recovery operation at the Lost Cabin Gas Plant in Lysite, Wyoming, subject to New Source Performance Standard (NSPS) subpart LLL?

A1: No. Emission from liquid sulfur storage tanks at a natural gas sweetening and sulfur recovery operation are not regulated under NSPS subpart LLL.

Q2: Does performance testing of the tail gas incinerator require the inclusion of the liquid sulfur storage tank vent gas?

A2: No. Liquid sulfur storage tank vent gas does not need to be included in the performance testing of the tail gas incinerator, nor in the sulfur reduction efficiency calculations.

Q3: Does monitoring the tail gas incinerator require inclusion of the sulfur contribution from the liquid sulfur storage tanks?

A3: No. Liquid sulfur storage tank vent gas does not need to be included in the monitoring of the tail gas incinerator, nor in the sulfur reduction efficiency calculations.

Q4: Will EPA approve an alternative monitoring method for the combined sulfur dioxide (SO2) emissions from the Train 1 tail gas unit and the liquid sulfur storage tanks?

A4: No. EPA will not approve the alternative method proposed for the combined SO2 emissions from the Train 1 tail gas unit and the liquid sulfur storage tanks.

Abstract for [0500058]

Q1: Is New Source Performance Standard (NSPS) subpart Y applicable to charcoal briquet manufacturing?

A1: If a charcoal briquet manufacturing plant processes more than 200 tons of coal per day and meets the definition of a “coal preparation plant” as defined in 40 CFR 60.250, then it would be subject to NSPS subpart Y.

Q2: Does the use of pre-processed coal count toward the 200-ton/day threshold of NSPS subpart Y?

A2: No. The use of coal that is pre-processed off-site would not count toward the 200-ton/day threshold in NSPS subpart Y.

Q3: Is char made from lignite considered to be coal?

A3: EPA cannot provide a response to this question without site-specific information.

Q4: Does NSPS subpart Y apply where no size reduction of coal refuse removal is conducted?

A4: The Agency cannot provide a response to this question without site-specific information.

Abstract for [0500059]

Q1: ICM, Incorporated, in Colwich, Kansas, designs and builds thermal oxidizer heat recovery steam generating system (TO-HRSG) at ethanol plants. Does a thermal oxidizer portion of the TO-HRSG satisfy the definition of a “duct burner” in 40 CFR 60.41b?

A1: No. The thermal oxidizer does not satisfy the definition of a “duct burner” in 40 CFR 60.41b.

Q2: Are the grains dryers at an ethanol plant part of the combined cycle system and, therefore, part of the affected facility as defined in 40 CFR 60.40b?

A2: No. The grains dryers are separate sources and are not part of the combined cycle system.

Q3: Can the heat input from the grain dryers at an ethanol plant be used to calculate the nitrogen oxide (NOX)emissions from the affected facility?

A3: No. The heat input from the grains dryers cannot be used to calculate the NOX emissions from the affected facility.

Abstract for [M050035]

Q: Does the Maximum Achievable Control Technology (MACT) standard subpart ZZZZ apply to reciprocating internal combustion engines with a site-rating of less than 500 brake horsepower located at a major source of hazardous air pollutants?

A: No. MACT subpart ZZZZ does not apply to reciprocating internal combustion engines with a site-rating of less than 500 brake horsepower located at a major source of hazardous air pollutants.

Dated: October 19, 2005.
Michael M. Stahl,
Director, Office of Compliance.

[FR Doc. 05-21625 Filed 10-28-05; 8:45 am]

BILLING CODE 6560-50-P